DEPARTMENT OF TRANSPORTATION

Surface Transportation Board

[STB Finance Docket No. 34043]

Dakota Short Line Inc.—Lease Exemption—State of South Dakota

Dakota Short Line Inc. (DAKS), a Class III rail carrier, has filed a notice of exemption under 49 CFR 1150.41 to sublease from the Napa to Platte Regional Railroad Authority (NPRRA) and operate approximately 13.5 miles of rail line commencing at the intersection of the North Sioux City to Mitchell line located in the W½ of the SW¼ of Section 22, Township 94 North, Range 68 West of the 5th P.M., also known as milepost 0.0, and additionally known as Railroad Engineer's Survey Station Number 0.0, and extending in a westerly direction, through the Counties of Yankton and Bon Homme, SD, and terminating at the westerly line of Section 16, Township 94 North, Range 58 west of the 5th P.M., also known as milepost 13.4±, and additionally known as Railroad Engineer's Survey Station Number 711+40.¹ DAKS certifies that its projected revenues as a result of the transaction will not result in its becoming a Class II and Class I rail carrier.

¹ The line is owned by the State of South Dakota, and currently leased by NPRRA. See Dakota Southern Railway Company Modified Rail Certificate, Finance Docket No. 30734 (ICC served Oct. 31, 1985).

DAKS states in its notice that Dakota Southern Railway Company was the last operator of the rail line and that there have been no rail movements over the rail line in the year 2001.

The transaction was due to be consummated on or after May 21, 2001.²

² DAKS reported that the transaction was consummated May 1, 2001. DAKS' representative has been notified by Board staff that the earliest the transaction could be consummated was May 21, 2001, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34043, must be filed with the Surface Transportation Board, Office of the Secretary, Case Control Unit, 1925 K Street, NW., Washington, DC 20423-0001. In addition, one copy of each pleading must be served on Leon E. Steege, 205 East 3rd St., P.O. Box 46, Delmont, SD 57330-0046.

Board decisions and notices are available on our website at www.stb.dot.gov.

Decided: May 31, 2001.
By the Board, David M. Konschnik, Director, Office of Proceedings.
Vernon A. Williams,
Secretary.

[FR Doc. 01-14272 Filed 6-6-01; 8:45 am]

BILLING CODE 4915-00-P